DEPARTMENT OF AGRICULTURE

Agricultural Marketing Service

[Doc. # AMS-FV-13-0018]

United States Standards for Grades of Creole Onions

AGENCY: Agricultural Marketing Service, USDA.

ACTION: Final notice.

SUMMARY: This Notice revises the U.S. Standards for Grades of Creole Onions, which are issued under the Agricultural Marketing Act of 1946. The Agricultural Marketing Service (AMS) is amending the similar varietal characteristic requirement to allow mixed colors of onions, when designated as a mixed or specialty pack, to be certified to a U.S. grade. In addition, AMS will correct language and remove the “Unclassified” category from the standards. These revisions will align the standards with today's marketing practices and provide the industry with greater flexibility.

DATES: Effective Date: November 24, 2014.

FOR FURTHER INFORMATION CONTACT: Dave Horner, Standardization Branch, Specialty Crops Inspection (SCI) Division, (540) 361-1128 or 1150. The current U.S. Standards for Grades of Creole Onions are available on the SCI Division Web site at http://www.ams.usda.gov/scihome.

SUPPLEMENTARY INFORMATION: Section 203(c) of the Agricultural Marketing Act of 1946 (7 U.S.C. 1621-1627), as amended, directs and authorizes the Secretary of Agriculture “to develop and improve standards of quality, condition, quantity, grade and packaging, and recommend and demonstrate such standards in order to encourage uniformity and consistency in commercial practices.” AMS is committed to carrying out this authority in a manner that facilitates the marketing of agricultural commodities and makes copies of official standards available upon request. The U.S. standards for grades of fruits and vegetables that are not connected with marketing orders or U.S. import requirements no longer appear in the Code of Federal Regulations, but are maintained by USDA, AMS, Fruit and Vegetable Program, and are available on the Internet at www.ams.usda.gov/scihome.

AMS is revising the voluntary U.S. Standards for Grades of Creole Onions using the procedures that appear in Part 36, Title 7 of the Code of Federal Regulations (7 CFR part 36).

Background and Comments

The industry, particularly in Idaho, Oregon, Texas, and Washington, are packing mixed colors of onions. Currently, the Creole onion standards do not permit certifying a U.S. grade to a pack that comingles colors, such as white onions with yellow to brownish red onions.

On August 22, 2013, AMS published a notice in the Federal Register (78 FR 52131) proposing to revise the U.S. Standards for Grades of Creole Onions to allow mixed color packs of onions to be certified to a U.S. grade. We apprised the onion industry of this notice to foster widespread participation in the Part 36 process. The comment period closed on October 21, 2013. No comments were received. Based on the information gathered, AMS will amend the similar varietal characteristic requirement in the U.S. No. 1 and U.S. No. 2 sections of the standards by adding “except color when designated as a specialty or mixed pack.” The U.S. Combination grade section also will be amended to reflect this change.

In addition, AMS will eliminate the “Unclassified” section. AMS is removing this section from standards for all commodities as they are revised. This category, which is not a grade and only serves to show that no grade has been applied to the lot, is no longer necessary.

Furthermore, AMS will replace the capital “S” with a small “s” on the word “Seedstems” in the U.S. No. 1 and U.S. No. 2 sections of the standards to correct a formatting error.

These revisions will facilitate onion marketing in the competitive U.S. market.

The official grade of a lot of Creole onions covered by these standards will be determined by the procedures set forth in the Regulations Governing Inspection, Certification, and Standards of Fresh Fruits, Vegetables and Other Products (Sec. 51.1 to 51.61).

The U.S. Standards for Grades of Creole Onions will be effective 30 days after publication of this notice in the Federal Register.

Authority: 7 U.S.C. 1621-1627.

Dated: October 17, 2014.
Rex A. Barnes,
Associate Administrator, Agricultural Marketing Service.

[FR Doc. 2014-25195 Filed 10-22-14; 8:45 am]

BILLING CODE P